DEPARTMENT OF LABOR

Office of the Secretary

Worker Rights Program

AGENCY: Bureau of International Labor Affairs, U.S. Department of Labor.

ACTION: Notice of intent to solicit cooperative agreement applications.

SUMMARY: The U.S. Department of Labor (USDOL), Bureau of International Labor Affairs (ILAB) Office of Trade and Labor Affairs (OTLA), Division of Trade Agreement Administration and Technical Cooperation (TAATC), intends to obligate approximately USD 3 million to support cooperative agreement awards to organizations to address workers rights issues internationally. ILAB intends to award, through a competitive and merit-based process, cooperative agreements to organizations to develop and implement projects to promote core labor standards by working at tripartite levels (governments, employers and labor) to improve labor law compliance in Pakistan and Kenya.

ILAB intends to fund projects that focus on strengthening compliance with international core labor standards, improving working conditions for workers, increasing knowledge among employers and workers of their rights and obligations, and to increase the capacity of ministries of labor to use the labor administration/inspection system more effectively. The projects should propose innovative and cost-effective interventions that will produce a demonstrable and sustainable impact to target beneficiaries at all levels within a tripartite system. ILAB intends to solicit cooperative agreement applications from qualified organizations (i.e., any commercial, international, educational, or non-profit organization, including any faith-based, community-based, or public international organizations(s), capable of successfully developing and implementing worker rights projects) to implement these projects. Please refer to http://www.dol.gov/ilab/grants/main.htm for examples of previous notices of availability of funds and solicitations for cooperative agreement applications (SGAs).

Key Dates: The forthcoming SGAs will be published on http://www.grants.gov and USDOL/ILAB's Web site. A brief synopsis of the SGAs and Web site links to the full-text SGAs will be published in the Federal Register. The SGAs will remain open for at least 60 days from the date of publication. All cooperative agreement awards will be made on or before September 30, 2009.

Submission Information: Applications in response to the forthcoming solicitation must be submitted electronically on http://www.grants.gov or submitted in hard copy to Lisa Harvey, Office of Procurement Services, Room S-4307, 200 Constitution Ave., NW., Washington, DC 20210.

FOR FURTHER INFORMATION CONTACT: Ms. Lisa Harvey. E-mail address: harvey.lisa@dol.gov. All inquiries should make reference to the USDOL ILAB Workers Rights—SGAs. Information on the specific sectors, geographical regions, and funding levels for the potential projects in the countries listed above will be addressed in the SGAs to be published on http://www.grants.gov. Potential applicants should not submit inquiries to USDOL for further information on these award opportunities until after USDOL's publication of the solicitations.

Background Information: TAATC works with other governments and international organizations to identify assistance that countries may require to improve the labor conditions of their citizens. Since 1995, TAATC has developed programs in more than seventy countries addressing a wide range of labor issues. In FY 2008, Congress provided $5 million to implement model programs to assure adherence to international core labor standards in countries with which the United States provides trade preferences (in 2008, projects were launched in Afghanistan, Colombia, Haiti and Tanzania). To date, the U.S. Congress has appropriated $11.5 million to USDOL to support these activities. For additional information on the program, see TAATC fact sheet at http://www.dol.gov/ilab/media/factsheets/20080200TAATC.pdf.

International projects funded by USDOL to promote worker rights seek to assure adherence to international core labor standards in countries with which the United States provides trade preference through the following activities:

1. Provide training for labor inspectors;

2. Provide knowledge, education, and awareness-raising for workers about their rights;

3. Provide education and awareness-raising for employers about their responsibilities and worker rights;

4. Enhance the capacity of Ministries of Labor to generate and maintain reliable labor market data;

5. Strengthen the capacity of worker and employer organizations to engage in social dialogue.

Signed at Washington, DC, this 13th day of April 2009.
Lisa Harvey,
Grant Officer.

[FR Doc. E9-8814 Filed 4-16-09; 8:45 am]

BILLING CODE 4510-28-P